DEPARTMENT OF COMMERCE

International Trade Administration

[C-122-865, C-201-851, C-570-103]

Certain Fabricated Structural Steel From Canada, Mexico, and the People's Republic of China: Initiation of Countervailing Duty Investigations

AGENCY: Enforcement and Compliance, International Trade Administration, Department of Commerce.

DATES: Applicable February 25, 2019.

FOR FURTHER INFORMATION CONTACT: Whitley Herndon at (202) 482-6274 (Canada), Thomas Martin (202) 482-3936 or Trisha Tran at (202) 482-4852 (Mexico), or Darla Brown at (202) 482-1791 (People's Republic of China (China)), AD/CVD Operations, Enforcement and Compliance, International Trade Administration, U.S. Department of Commerce, 1401 Constitution Avenue NW, Washington, DC 20230.

SUPPLEMENTARY INFORMATION:

The Petitions

On February 4, 2019, the U.S. Department of Commerce (Commerce) received countervailing duty (CVD) Petitions concerning imports of certain fabricated structural steel (fabricated structural steel) from Canada, Mexico, and China, which were subsequently amended on February 21, 2019.¹ The Petitions, as amended, were filed in proper form by a subgroup of the American Institute of Steel Construction, LLC, a trade association representing domestic producers of fabricated structural steel. Specifically, the petitioner is the American Institute of Steel Construction Full Member Subgroup (the petitioner). The CVD Petitions were accompanied by antidumping duty (AD) Petitions concerning imports of fabricated structural steel from Canada, Mexico, and China.

¹ See the petitioner's Letter, “Petitions for the Imposition of Antidumping and Countervailing Duties on Certain Fabricated Structural Steel from Canada, Mexico, and the People's Republic of China,” dated February 4, 2019, as amended on February 21, 2019 (the Petitions).

During the period February 7 through February 14, 2019, Commerce requested supplemental information pertaining to certain aspects of the Petitions in separate supplemental questionnaires.² Responses to the supplemental questionnaires were filed between February 12 and February 19, 2019.³

² See Commerce Letters, “Petitions for the Imposition of Antidumping and Countervailing Duties on Imports of Certain Fabricated Structural Steel from Canada, the People's Republic of China, and Mexico: Supplemental Questions,” dated February 7, 2019, “Petition for the Imposition of Countervailing Duties on Imports of Certain Fabricated Structural Steel from the People's Republic of China (China): Supplemental Questions,” dated February 7, 2019, “Petition for the Imposition of Countervailing Duties on Certain Fabricated Structural Steel from Canada: Supplemental Questions,” dated February 8, 2019, “Petition for the Imposition of Countervailing Duties on Certain Fabricated Structural Steel from Mexico: Supplemental Questions,” dated February 8, 2019, and “Petition for the Imposition of Countervailing Duties on Imports of Certain Fabricated Structural Steel from Mexico: Additional Supplemental Questions,” dated February 14, 2019.

³ See the petitioner's Letters, “Certain Fabricated Structural Steel from Canada, Mexico, and the People's Republic of China: Responses to Supplemental Questions on General and Injury Volume I of the Petition,” dated February 12, 2019 (General Issues Supplement), “Certain Fabricated Structural Steel from Canada: Responses to Supplemental Questions on Canada CVD Volume V of the Petition,” dated February 12, 2019, “Certain Fabricated Structural Steel from Canada: Responses to Supplemental Questions on Mexico CVD Volume VI of the Petition,” dated February 12, 2019, “Certain Fabricated Structural Steel from the People's Republic of China: Responses to Supplemental Questions on China CVD Volume VII of the Petition,” dated February 12, 2019, and “Certain Fabricated Structural Steel from Mexico: Responses to Second Supplemental Questions in CVD Volume VI of the Petition,” dated February 19, 2019.

In accordance with section 702(b)(1) of the Tariff Act of 1930, as amended (the Act), the petitioner alleges that the Governments of Canada, Mexico, and China, as well as the Canadian provincial governments of Alberta, British Colombia (BC), Manitoba, New Brunswick, Ontario, Québec, Prince Edward Island (PEI) and Saskatchewan, are providing countervailable subsidies, within the meaning of sections 701 and 771(5) of the Act, to producers of fabricated structural steel in Canada, Mexico, and China and that imports of such products are materially injuring, or threatening material injury to, the domestic industry producing fabricated structural steel in the United States. Consistent with section 702(b)(1) of the Act and 19 CFR 351.202(b), for those alleged programs on which we are initiating CVD investigations, the Petitions are accompanied by information reasonably available to the petitioner supporting their allegations.

Section 771(9)(E) of the Act states that “a trade or business association” is an interested party if “a majority” of its “members manufacture, produce, or wholesale a domestic like product in the United States. Based on information contained in the petitioner's amended Petition submission of February 21, 2019,⁴ as well as its prior submissions pertaining to the membership of the American Institute of Steel Construction, LLC,⁵ Commerce finds that the petitioner satisfactorily showed that a majority of its members manufacture, produce, or wholesale a domestic like product in the United States, and therefore the Petitions, as amended, have been filed on behalf of the domestic industry. Commerce also finds that the petitioner demonstrated sufficient industry support with respect to the initiation of the requested CVD investigations.⁶

⁴ See the petitioner's Letter, “Certain Fabricated Structural Steel from Canada, Mexico, and the People's Republic of China: Amendment to Petition to Clarify Petitioner,” dated February 21, 2019 (Amendment to the Petitions) at 2.

⁵ See the petitioner's Letter, “Petitions for the Imposition of Antidumping and Countervailing Duties on Certain Fabricated Structural Steel from Canada, Mexico, and the People's Republic of China,” dated February 4, 2019 at Exhibit I-2.

⁶ See “Countervailing Duty Investigation Initiation Checklist: Certain Fabricated Structural Steel from Canada (Canada CVD Initiation Checklist); Countervailing Duty Investigation Initiation Checklist: Certain Fabricated Structural Steel from the People's Republic of China (China CVD Initiation Checklist); and Countervailing Duty Investigation Initiation Checklist: Certain Fabricated Structural Steel from Mexico (Mexico CVD Initiation Checklist). These checklists are dated concurrently with, and hereby adopted by, this notice and on file electronically via ACCESS. Access to documents filed via ACCESS is also available in the Central Records Unit, Room B8024 of the main Department of Commerce building.

Period of Investigations

Because the Petitions were filed on February 4, 2019, and amended on February 21, 2019, the period of investigation for each investigation is January 1, 2018, through December 31, 2018.

Scope of the Investigations

The product covered by these investigations is fabricated structural steel from Canada, Mexico, and China. For a full description of the scope of these investigations, see the Appendix to this notice.

Scope Comments

During our review of the Petitions, Commerce contacted the petitioner regarding the proposed scope language to ensure that the scope language in the Petitions is an accurate reflection of the products for which the domestic industry is seeking relief.⁷ As a result, the scope of the Petitions was modified to clarify the description of merchandise covered by the Petitions. The description of the merchandise covered by these initiations, as described in the Appendix to this notice, reflects these clarifications.

⁷ See Memorandum, “Petitions for the Imposition of Antidumping and Countervailing Duties on Imports of Certain Fabricated Structural Steel from Canada, the People's Republic of China, and Mexico: Phone Call with Counsel to the Petitioner,” dated February 21, 2019; see also the petitioner's Letter, “Certain Fabricated Structural Steel from Canada, Mexico, and the People's Republic of China: Revision to Scope,” dated February 22, 2019.

As discussed in the Preamble to Commerce's regulations, we are setting aside a period for interested parties to raise issues regarding product coverage (scope), including potential overlap with existing orders.⁸ To the extent that the scope of any of these investigations overlaps with existing AD/CVD orders, any products covered by that overlap will be excluded from the scope of the relevant investigation. Commerce will consider all comments received from interested parties and, if necessary, will consult with interested parties prior to the issuance of the preliminary determination. If scope comments include factual information,⁹ all such factual information should be limited to public information. To facilitate preparation of its questionnaires, Commerce requests that all interested parties submit scope comments by 5:00 p.m. Eastern Time (ET) on March 18, 2019, which is the next business day after 20 calendar days from the signature date of this notice. Any rebuttal comments, which may include factual information, must be filed by 5:00 p.m. ET on March 28, 2019, which is 10 calendar days from the initial comments deadline.¹⁰

⁸ See Antidumping Duties; Countervailing Duties, Final Rule, 62 FR 27296, 27323 (May 19, 1997).

⁹ See 19 CFR 351.102(b)(21) (defining “factual information”).

¹⁰ See 19 CFR 351.303(b).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically using Enforcement and Compliance's Antidumping Duty and Countervailing Duty Centralized Electronic Service System (ACCESS).¹¹ An electronically filed document must be received successfully in its entirety by the time and date it is due. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

¹¹ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook%20on%20Electronic%20Filling%20Procedures.pdf.

Consultations

Pursuant to sections 702(b)(4)(A)(i) and (ii) of the Act, Commerce notified representatives of Canada, Mexico, and China of the receipt of the Petitions and provided them the opportunity for consultations with respect to the CVD Petitions.¹² Commerce held consultations with Canada and Mexico, on February 19, 2019.¹³ China did not request consultations.

¹² See Commerce Letters, “Certain Fabricated Structural Steel from Canada, Invitation for Consultations to Discuss the Countervailing Duty Petition” dated February 5, 2019, “Countervailing Duty Petition on Certain Fabricated Structural Steel from Mexico,” dated February 6, 2019, and “Countervailing Duty Petition on Certain Fabricated Structural Steel from the People's Republic of China,” dated February 5, 2019.

¹³ See Memorandum, “Consultations with Officials from the Government of Canada Regarding the Countervailing Duty Petition Concerning Fabricated Structural Steel from Canada,” and “Ex-Parte Meeting with Officials from the Government of Mexico on the Countervailing Duty Petition on Certain Fabricated Structural Steel from Mexico,” both dated February 19, 2019.

Determination of Industry Support for the Petitions

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers, as a whole, of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the Petitions.¹⁶ Based on our analysis of the information submitted on the record, we have determined that fabricated structural steel, as defined in the scope, constitutes a single domestic like product, and we have analyzed industry support in terms of that domestic like product.¹⁷

¹⁶ See Volume I of the Petitions, at 14-16 and Exhibit I-5; see also General Issues Supplement, at 1-3.

¹⁷ For a discussion of the domestic like product analysis as applied to these cases and information regarding industry support, see Canada CVD Initiation Checklist, at Attachment II, Analysis of Industry Support for the Antidumping and Countervailing Duty Petitions Covering Certain Fabricated Structural Steel from Canada, the People's Republic of China, and Mexico (Attachment II); see also China CVD Initiation Checklist, at Attachment II; Mexico CVD Initiation Checklist, at Attachment II.

In determining whether the petitioner has standing under section 702(c)(4)(A) of the Act, we considered the industry support data contained in the Petitions with reference to the domestic like product as defined in the “Scope of the Investigations,” in the Appendix to this notice. To establish industry support, the petitioner provided its own production of the domestic like product in 2017.¹⁸ The petitioner estimated the production of the domestic like product for the entire domestic industry based on shipment data, because production data for the entire domestic industry are not available, and shipments are a close approximation of production in the fabricated structural steel industry.¹⁹ The petitioner compared its production to the estimated total production of the domestic like product for the entire domestic industry.²⁰ We relied on data provided by the petitioner for purposes of measuring industry support.²¹

¹⁸ See Volume I of the Petitions, at 2-3 and Exhibit I-4.

¹⁹ Id. at 2-3 and Exhibits I-3 and I-4; see also General Issues Supplement, at 3-6.

²⁰ See Volume I of the Petitions, at 2-3.

²¹ Id. at 2-3 and Exhibit I-3 and I-4; see also General Issues Supplement, at 3-6. For further discussion, see Canada CVD Initiation Checklist, at Attachment II; China CVD Initiation Checklist, at Attachment II; and Mexico CVD Initiation Checklist, at Attachment II.

From February 12 through February 13, 2019, we received comments on industry support from Canada, Quebec, and Mexico, respectively.²² The petitioner responded to Canada's and Mexico's comments on February 19, 2019.²³

²² See Mexico Letter, “Fabricated Structural Steel from Mexico (A-201-850 and C-201-851)—Request to Dismiss Petitions or Otherwise Postpone Initiation,” dated February 13, 2019; see also Canada Letter, “Fabricated Structural Steel from Canada (A-122-864 and C-122-865)—Request for Postponement of Initiation and Disclosure of Members of Petitioner American Institute of Steel Construction and Identities of Known Domestic Producers,” dated February 12, 2019; see also Mexico Letter, “Fabricated Structural Steel from Mexico (C-201-851)—Submission of Consultations Paper,” dated February 20, 2019.

²³ See the petitioner's Letter, “Certain Fabricated Structural Steel from Canada and Mexico: Response to Respondents' Request to Reject Petitions or Postpone Initiation,” dated February 19, 2019 (the petitioner's Response).

On February 19, 2019, we received comments on industry support from Corey, S.A. de C.V. (Corey), a Mexican producer and exporter of fabricated structural steel.²⁴

²⁴ See Letter from Corey, “Fabricated Structural Steel from Mexico: Standing Challenge—Request to Decline Initiation of Antidumping and Countervailing Duty Investigations,” dated February 19, 2019.

The petitioner responded to the comments from Corey on February 21, 2019.²⁵ In addition, the petitioner subsequently clarified and amended the Petitions on February 21, 2019 in response to comments from Canada, Mexico, and Corey.²⁶ During consultations held with respect to the Canada and Mexico CVD petitions, the both Canada and Mexico discussed industry support comments and provided additional comments in the respective CVD consultation papers.²⁷ On February 22, 2019, we received additional comments on industry support from Canada, Quebec and Mexico.²⁸ The petitioner responded to those comments on February 25, 2019.²⁹ For further discussion of these comments, see the country-specific CVD initiation checklists, at Attachment II.

²⁵ See the petitioner's Letter, “Certain Fabricated Structural Steel from Canada and Mexico: Response to Respondents' Standing Challenge and Request to Decline Initiation,” dated February 21, 2019.

²⁶ See Amendment to the Petitions.

²⁷ See Ex-Parte Memorandum, “Meeting with Officials from the Government of Mexico on the Countervailing Duty Petition on Certain Fabricated Structural Steel from Mexico” dated February 19, 2019; see also Memorandum, “Countervailing Duty Petition on Certain Fabricated Structural Steel from Canada: GOC Consultations,” dated February 21, 2019; see also Letter from Mexico, “Fabricated Structural Steel from Mexico (C-201-851)—Submission of Consultations Paper,” dated February 20, 2019; see also Letter from Canada, “Fabricated Structural Steel from Canada (A-122-864 and C-122-865)—Consultations Paper.

²⁸ See Letter from the GOQ, “Fabricated Structural Steel from Canada, (A-122-864 and C-122-865): Response to AISC Amendment to Petition,” dated February 22, 2019; see also Letter from Canada, “Fabricated Structural Steel from Canada (A-122-864 and C-122-865)—Response to AISC Amendment to Petition,” dated February 22, 2019; see also Letter from Mexico, “Fabricated Structural Steel from Mexico (C-201-851, A-201-850)—Comments on Change of Petitioner,” dated February 22, 2019.

²⁹ See Letter from the petitioner, “Certain Fabricated Structural Steel from Canada, Mexico, and the People's Republic of China,” dated February 25, 2019.

Our review of the data provided in the Petitions, the General Issues Supplement, and other information readily available to Commerce indicates that the petitioner has established industry support for the Petitions.³⁰ First, the Petitions established support from domestic producers (or workers) accounting for more than 50 percent of the total production of the domestic like product and, as such, Commerce is not required to take further action in order to evaluate industry support (e.g., polling).³¹ Second, the domestic producers (or workers) have met the statutory criteria for industry support under section 702(c)(4)(A)(i) of the Act because the domestic producers (or workers) who support the Petitions account for at least 25 percent of the total production of the domestic like product.³² Finally, the domestic producers (or workers) have met the statutory criteria for industry support under section 702(c)(4)(A)(ii) of the Act because the domestic producers (or workers) who support the Petitions account for more than 50 percent of the production of the domestic like product produced by that portion of the industry expressing support for, or opposition to, the Petitions.³³ Accordingly, Commerce determines that the Petitions were filed on behalf of the domestic industry within the meaning of section 702(b)(1) of the Act.

³⁰ See Canada CVD Initiation Checklist, at Attachment II; China CVD Initiation Checklist, at Attachment II; and Mexico CVD Initiation Checklist, at Attachment II.

³¹ Id.; see also section 702(c)(4)(D) of the Act.

³² See Canada CVD Initiation Checklist, at Attachment II; China CVD Initiation Checklist, at Attachment II; and Mexico CVD Initiation Checklist, at Attachment II.

³³ Id.

Commerce finds that the petitioner filed the Petitions on behalf of the domestic industry because it is an interested party as defined in section 771(9)(E) of the Act, and it has demonstrated sufficient industry support with respect to the CVD investigations that it is requesting that Commerce initiate.³⁴

³⁴ Id.

Injury Test

Because Canada, China, and Mexico are “Subsidies Agreement Countries” within the meaning of section 701(b) of the Act, section 701(a)(2) of the Act applies to these investigations. Accordingly, the ITC must determine whether imports of the subject merchandise from Canada, China, and/or Mexico materially injure, or threaten material injury to, a U.S. industry.

Allegations and Evidence of Material Injury and Causation

The petitioners allege that imports of the subject merchandise are benefitting from countervailable subsidies and that such imports are causing, or threaten to cause, material injury to the U.S. industry producing the domestic like product. In addition, the petitioner alleges that subject imports exceed the negligibility threshold provided for under section 771(24)(A) of the Act.³⁵

³⁵ See Volume I of the Petitions, at 22 and Exhibit I-8.

The petitioner contends that the industry's injured condition is illustrated by the significant volume and increasing market share of subject imports; reduced market share of the U.S. industry; underselling and price depression or suppression; declines in production, shipments, and capacity utilization; negative impact on employment variables; decline in the domestic industry's financial performance; and lost sales and revenues.³⁶ We have assessed the allegations and supporting evidence regarding material injury, threat of material injury, causation, negligibility, as well as cumulation, and we have determined that these allegations are properly supported by adequate evidence, and meet the statutory requirements for initiation.³⁷

³⁶ Id. at 11-35 and Exhibits I-3, I-5, I-8, I-10 through I-22.

³⁷ See Canada CVD Initiation Checklist, at Attachment III, Analysis of Allegations and Evidence of Material Injury and Causation for the Antidumping and Countervailing Duty Petitions Covering Certain Fabricated Structural Steel from Canada, the People's Republic of China, and Mexico (Attachment III); see also China CVD Initiation Checklist, at Attachment III; see also Mexico CVD Initiation Checklist, at Attachment III.

Initiation of CVD Investigations

Based on the examination of the Petitions, we find that the Petitions meet the requirements of section 702 of the Act. Therefore, we are initiating CVD investigations to determine whether imports of fabricated structural steel from Canada, Mexico, and China benefit from countervailable subsidies conferred by the governments of these countries. In accordance with section 703(b)(1) of the Act and 19 CFR 351.205(b)(1), unless postponed, we will make our preliminary determination no later than 65 days after the date of this initiation.

Canada

Based on our review of the Petition, we find that there is sufficient information to initiate a CVD investigation on 43 of the 44 alleged programs. For a full discussion of the basis for our decision to initiate on each program, see Canada CVD Initiation Checklist. A public version of the initiation checklist for this investigation is available on ACCESS.

Mexico

Based on our review of the Petition, we find that there is sufficient information to initiate a CVD investigation on 17 of the 19 alleged programs. For a full discussion of the basis for our decision to initiate on each program, see Mexico CVD Initiation Checklist. A public version of the initiation checklist for this investigation is available on ACCESS.

China

Based on our review of the Petition, we find that there is sufficient information to initiate a CVD investigation, in whole or part, on 25 of the 26 alleged programs. For a full discussion of the basis for our decision to initiate on each program, see China CVD Initiation Checklist. A public version of the initiation checklist for this investigation is available on ACCESS.

Respondent Selection

In the Petitions, the petitioner named 50 companies in Canada,³⁸ 18 companies in Mexico,³⁹ and 220 companies in China,⁴⁰ as producers/exporters of fabricated structural steel. Commerce intends to follow its standard practice in CVD investigations and calculate company-specific subsidy rates in these investigations. In the event Commerce determines that the number of companies is large and it cannot individually examine each company based upon Commerce's resources, where appropriate, Commerce intends to select mandatory respondents based on U.S. Customs and Border Protection (CBP) data for U.S. imports of fabricated structural steel from Canada, Mexico, and China during the POI under the appropriate Harmonized Tariff Schedule of the United States numbers listed in the “Scope of the Investigations,” in the Appendix.

³⁸ See Volume I of the Petition at Exhibit I-7.

³⁹ Id.

⁴⁰ Id.

On February 20, 2019, Commerce released CBP data under Administrative Protective Order (APO) to all parties with access to information protected by APO and indicated that interested parties wishing to comment regarding the CBP data and respondent selection must do so within three business days of the publication date of the notice of initiation of these CVD investigations.⁴¹ Commerce will not accept rebuttal comments regarding the CBP data or respondent selection.

⁴¹ See Memorandum, “Countervailing Duty Investigation of Certain Fabricated Structural Steel from Canada: Releasing U.S. Customs and Border Protection Data,” Memorandum, “Countervailing Duty Petition on Certain Fabricated Structural Steel from Mexico: Release of Customs Data from U.S. Customs and Border Protection,” and Memorandum, “Countervailing Duty Petition on Certain Fabricated Structural Steel from the People's Republic of China: Release of Customs Data from U.S. Customs and Border Protection,” each dated February 20, 2019.

Interested parties must submit applications for disclosure under APO in accordance with 19 CFR 351.305(b). Instructions for filing such applications may be found on the Commerce's website at http://enforcement.trade.gov/apo.

Comments must be filed electronically using ACCESS. An electronically filed document must be received successfully, in its entirety, by ACCESS no later than 5:00 p.m. ET on the date noted above. We intend to finalize our decisions regarding respondent selection within 20 days of publication of this notice.

Distribution of Copies of the Petitions

In accordance with section 702(b)(4)(A)(i) of the Act and 19 CFR 351.202(f), copies of the public versions of the Petitions have been provided to Canada, China, and Mexico via ACCESS. To the extent practicable, we will attempt to provide a copy of the public version of the Petitions to each exporter named in the Petitions, as provided under 19 CFR 351.203(c)(2).

ITC Notification

We will notify the ITC of our initiation, as required by section 702(d) of the Act.

Preliminary Determination by the ITC

The ITC will preliminarily determine, within 45 days after the date on which the Petitions were filed, whether there is a reasonable indication that imports of fabricated structural steel from Canada, China, and/or Mexico are materially injuring, or threatening material injury to, a U.S. industry.⁴² A negative ITC determination in any country will result in the investigation being terminated with respect to that country.⁴³ Otherwise, these investigations will proceed according to statutory and regulatory time limits.

⁴² See section 703(a)(2) of the Act.

⁴³ See section 703(a)(1) of the Act.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴⁴ and, if the information is submitted to rebut, clarify, or correct factual information already on the record, to provide an explanation identifying the information already on the record that the factual information seeks to rebut, clarify, or correct.⁴⁵ Time limits for the submission of factual information are addressed in 19 CFR 351.301, which provides specific time limits based on the type of factual information being submitted. Interested parties should review the regulations prior to submitting factual information in these investigations.

⁴⁴ See 19 CFR 351.301(b).

⁴⁵ See 19 CFR 351.301(b)(2).

Extensions of Time Limits

Parties may request an extension of time limits before the expiration of a time limit established under 19 CFR 351.301, or as otherwise specified by the Secretary. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in the letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴⁶ Parties must use the certification formats provided in 19 CFR 351.303(g).⁴⁷ Commerce intends to reject factual submissions if the submitting party does not comply with the applicable certification requirements.

⁴⁶ See section 782(b) of the Act.

⁴⁷ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)).

This notice is issued and published pursuant to sections 702 and 777(i) of the Act and 19 CFR 351.203(c).

Dated: February 25, 2019.
Gary Taverman,
Deputy Assistant Secretary for Antidumping and Countervailing Duty Operations, performing the non-exclusive functions and duties of the Assistant Secretary for Enforcement and Compliance.

Appendix—Scope of the Investigations

The merchandise covered by these investigations is carbon and alloy fabricated structural steel. Fabricated structural steel is made from steel in which: (1) Iron predominates, by weight, over each of the other contained elements; and (2) the carbon content is two percent or less by weight. Fabricated structural steel products are steel products that have been fabricated for erection or assembly into structures, including, but not limited to, buildings (commercial, office, institutional, and multi-family residential); industrial and utility projects; parking decks; arenas and convention centers; medical facilities; and ports, transportation and infrastructure facilities. Fabricated structural steel is manufactured from carbon and alloy (including stainless) steel products such as angles, columns, beams, girders, plates, flange shapes (including manufactured structural shapes utilizing welded plates as a substitute for rolled wide flange sections), channels, hollow structural section (HSS) shapes, base plates, and plate-work components. Fabrication includes, but is not limited to cutting, drilling, welding, joining, bolting, bending, punching, pressure fitting, molding, grooving, adhesion, beveling, and riveting and may include items such as fasteners, nuts, bolts, rivets, screws, hinges, or joints.

The inclusion, attachment, joining, or assembly of non-steel components with fabricated structural steel does not remove the fabricated structural steel from the scope.

Fabricated structural steel is covered by the scope of the investigations regardless of whether it is painted, varnished, or coated with plastics or other metallic or non-metallic substances and regardless of whether it is assembled or partially assembled, such as into modules, modularized construction units, or sub-assemblies of fabricated structural steel.

Subject merchandise includes fabricated structural steel that has been assembled or further processed in the subject country or a third country, including but not limited to painting, varnishing, trimming, cutting, drilling, welding, joining, bolting, punching, bending, beveling, riveting, galvanizing, coating, and/or slitting or any other processing that would not otherwise remove the merchandise from the scope of the investigations if performed in the country of manufacture of the fabricated structural steel.

Specifically excluded from the scope of these investigations are:

1. Fabricated steel concrete reinforcing bar (rebar) if: (i) It is a unitary piece of fabricated rebar, not joined, welded, or otherwise connected with any other steel product or part; or (ii) it is joined, welded, or otherwise connected only to other rebar.

2. Fabricated structural steel for bridges and bridge sections that meets American Association of State and Highway and Transportation Officials (AASHTO) bridge construction requirements or any state or local derivatives of the AASHTO bridge construction requirements.

3. Pre-engineered metal building systems, which are defined as complete metal buildings that integrate steel framing, roofing and walls to form one, pre-engineered building system, that meet Metal Building Manufacturers Association guide specifications. Pre-engineered metal building systems are typically limited in height to no more than 60 feet or two stories.

4. Steel roof and floor decking systems that meet Steel Deck Institute standards.

5. Open web steel bar joists and joist girders that meet Steel Joist Institute specifications.

The products subject to the investigations are currently classified in the Harmonized Tariff Schedule of the United States (HTSUS) under subheadings: 7308.90.3000, 7308.90.6000, and 7308.90.9590.

The products subject to the investigations may also enter under the following HTSUS subheadings: 7216.91.0010, 7216.91.0090, 7216.99.0010, 7216.99.0090, 7222.40.6000, 7228.70.6000, 7301.10.0000, 7301.20.1000, 7301.20.5000, 7308.40.0000, 7308.90.9530, and 9406.90.0030.

The HTSUS subheadings above are provided for convenience and customs purposes only. The written description of the scope of the investigations is dispositive.

[FR Doc. 2019-03819 Filed 3-1-19; 8:45 am]

BILLING CODE 3510-DS-P